SMALL BUSINESS ADMINISTRATION

[Disaster Declaration #17949 and #17950; GUAM Disaster Number GU-00009]

Presidential Declaration Amendment of a Major Disaster for the Territory of Guam

AGENCY: U.S. Small Business Administration.

ACTION: Amendment 1.

SUMMARY: This is an amendment of the Presidential declaration of a major disaster for the Territory of Guam (FEMA-4715-DR), dated 05/28/2023.

Incident: Typhoon Mawar.

Incident Period: 05/22/2023 through 05/29/2023.

DATES: Issued on 06/09/2023.

Physical Loan Application Deadline Date: 07/27/2023.

Economic Injury (EIDL) Loan Application Deadline Date: 02/28/2024.

ADDRESSES: Submit completed loan applications to: U.S. Small Business Administration, Processing and Disbursement Center, 14925 Kingsport Road, Fort Worth, TX 76155.

FOR FURTHER INFORMATION CONTACT: A. Escobar, Office of Disaster Recovery & Resilience, U.S. Small Business Administration, 409 3rd Street SW, Suite 6050, Washington, DC 20416, (202) 205-6734.

SUPPLEMENTARY INFORMATION: The notice of the President's major disaster declaration for the Territory of Guam, dated 05/28/2023, is hereby amended to establish the incident period for this disaster as beginning 05/22/2023 through 05/29/2023.

All other information in the original declaration remains unchanged.

(Catalog of Federal Domestic Assistance Number 59008)

Francisco Sánchez, Jr.,
Associate Administrator, Office of Disaster Recovery & Resilience.

[FR Doc. 2023-12918 Filed 6-15-23; 8:45 am]

BILLING CODE 8026-09-P